DEPARTMENT OF JUSTICE

Notice of Lodging of Consent Decree Under the Comprehensive Environmental Response, Compensation, and Liability Act of 1980

Notice is hereby given that on January 31, 2007, a proposed Consent Decree in United States of America v. Estate of David W. St. Germain, Jr. and Zeneca Inc., Civil Action No. 07-10181 was lodged with the United States District Court for the District of Massachusetts.

In this action the United States sought recovery of response costs incurred in connection with the cleanup of hazardous substances released at the St. Germain Drum Site, the Oak Street Drum Site, and the Route 44 Disposal Area Site (collectively, the “Sites”), located in Taunton, Bristol County, Massachusetts, pursuant to Section 107 of the Comprehensive Environmental, Response, Compensation, and Liability Act, 42 U.S.C. 9607 (“CERCLA”). The Consent Decree provides that the Estate of David W. St. Germain, Jr. shall pay EPA all net proceeds from the sale of the St. Germain Site, up to the amount of EPA's Unreimbursed Response Costs, as defined in the Consent Decree. It is currently estimated that the net proceeds from the sale of the St. Germain Site will be approximately $400,000. The Consent Decree also provides that Zeneca will pay EPA a total of $2,562,260.49, plus interest from May 1, 2006, to resolve its liability at the Sites.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Estate of David W. St. Germain, Jr. and Zeneca Inc., D.J. Ref. 90-11-3-07658.

The Consent Decree may be examined at the Office of the United States Attorney, 1 Courthouse Way, John Joseph Moakley Courthouse, Suite 9200, Boston, MA 02210, and at U.S. EPA Region 1, One Congress Street, Suite 1100, Boston, MA 02210. During the public comment period, the Consent Decree, may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. in requesting a copy from the Consent Decree Library, please enclose a check in the amount of $7.25 (25 cents per page reproduction cost) payable to the U.S. Treasury or, if by e-mail or fax, forward a check in that amount to the Consent Decree Library at the stated address.

Ronald G. Gluck,
Assistant Chief, Environmental Enforcement Section, Environment and Natural Resources, Division.

[FR Doc. 07-685 Filed 2-14-07; 8:45 am]

BILLING CODE 4410-15-M